DEPARTMENT OF TRANSPORTATION

Office of the Secretary

[Docket No. OST-95-177]

Proposed Agency Information Collection; Comment Request; Disclosure of Change-of-Gauge Services

AGENCY: Office of the Secretary, DOT.

ACTION: Notice and request for comments.

SUMMARY: In accordance with the Paperwork Reduction Act of 1995 (44 U.S.C. Chapter 35, as amended), this notice announces and requests comments on the Department of Transportation's (DOT) intention to request the extension of a previously approved collection.

DATES: Comments on this notice must be received August 9, 2002.

ADDRESSES: Comments on this notice should be directed to the Competition and Policy Analysis Division (X-55), Office of Aviation Analysis, U.S. Department of Transportation, Room PL-401, Docket No. OST-95-177 (formerly 47546), 400 Seventh Street, SW., Washington, DC 20590. Three copies are requested, but not required.

FOR FURTHER INFORMATION CONTACT: Jack Schmidt, Competition and Policy Analysis Division (X-55), Office of Aviation Analysis, Office of the Secretary, U.S. Department of Transportation, 400 Seventh St. SW., Washington, DC 20590, (202) 366-5903.

SUPPLEMENTARY INFORMATION: Title: Disclosure of Change-of-Gauge Services.

OMB Control Number: 2105-0538.

Type of Request: Extension of a previously approved collection.

Abstract: Change-of-gauge service is scheduled passenger air transportation for which the operating carrier uses one single flight number even though passengers do not travel in the same aircraft from origin to destination but must change planes at an intermediate stop. In addition to one-flight-to-one-flight change-of-gauge services, change-of-gauge services can also involve aircraft changes between multiple flights on one side of the change point and one single flight on the other side. As with one-for-one change-of-gauge services, the carrier assigns a single flight number for the passenger's entire itinerary even though the passenger changes planes, but in addition, the single flight to or from the exchange point itself has multiple numbers, one for each segment with which it connects and one for the local market in which it operates.

The Department recognizes various public benefits that can flow from change-of-gauge services, such as a lowered likelihood of missed connections. However, although change-of-gauge flights can offer valuable consumer benefits, they can be confusing and misleading unless consumers are given reasonable and timely notice that they will be required to change planes during their journey.

Section 41712 of Title 49 of the U.S. Code authorizes the Department to decide if a U.S air carrier or foreign air carrier or ticket agent (including travel agents) has engaged in unfair or deceptive practices and to prohibit such practices. Under this authority, the Department has adopted various regulations and policies to prevent unfair or deceptive practices or unfair methods of competition. Among these are the CRS regulations contained in 14 CFR part 255.

The Department's current CRS rules, adopted in September of 1992, require that CRS displays give notice of any flight that involves a change of aircraft en route. In addition, the Department requires as a matter of policy that consumers be given notice of aircraft changes for change-of-gauge flights. (See Department Order 89-1-31, page 5.) The Department proposed to adopt the extant regulations, however, because it was not convinced that these rules and policies resulted in effective disclosure all of the time.

Affected Public: All U.S. air carriers, foreign air carriers, computer reservations systems, travel agents doing business in the United States and the traveling public.

Respondents: U.S. air carriers, foreign air carriers, ticket agents (including travel agents), and the traveling public.

Estimated Number of Respondents: 33,898 excluding travelers.

Total Annual Responses: 24.7 million to 74.1 million.

Estimated Total Annual Burden on Respondents: 205,908 to 617,736 hours.

Most of this data collection (third party notification) is accomplished through highly automated computerized systems.

Comments are invited on: (a) Whether this proposed collection of information is necessary for the proper performance of the functions of the agency, including whether the information will have practical utility; (b) the accuracy of the agency's estimate of burden of the proposed collection of information; (c) ways to enhance the quality, utility, and clarity of the information to be collected; and (d) ways to minimize the burden of the collection of information on the respondents, including through the use of automated techniques or other forms of information technology. All responses to this notice will be summarized and included in the request for OMB approval. All comments will also become a matter of public record.

Issued in Washington, DC, on June 4, 2002.
Randall D. Bennett,
Director, Office of Aviation Analysis.

[FR Doc. 02-14359 Filed 6-7-02; 8:45 am]

BILLING CODE 4910-62-P